DEPARTMENT OF TRANSPORTATION

Pipeline and Hazardous Materials Safety Administration

[Docket: PHMSA-98-4957]

Request for Public Comments and Office of Management and Budget Approval of Existing Information Collections (2137-0578 and 2137-0579)

AGENCY: Pipeline and Hazardous Materials Safety Administration (PHMSA), U.S. Department of Transportation (DOT).

ACTION: Notice and request for comments.

SUMMARY: In compliance with the Paperwork Reduction Act of 1995 (PRA), this notice announces that PHMSA has forwarded two Information Collection Requests to the Office of Management and Budget (OMB) for the renewal and extension of two information collections: “Reporting of Safety-Related Conditions on Gas, Hazardous Liquid and Carbon Dioxide Pipelines and Liquefied Natural Gas Facilities” (2137-0578) and “Drug and Alcohol Testing of Pipeline Operators” (2137-0579). The purpose of this notice is to invite the public to submit comments on the requests to OMB.

DATES: Submit comments on or before September 12, 2007.

ADDRESSES: Send comments directly to the Office of Management and Budget, Office of Information and Regulatory Affairs, Attn: Desk Office for the Department of Transportation, 725 17th Street, N.W., Washington, DC 20503.

FOR FURTHER INFORMATION CONTACT: Roger Little at (202) 366-4569, or by e-mail at roger.little@dot.gov.

SUPPLEMENTARY INFORMATION: This notice identifies two existing information collections PHMSA is submitting to OMB for renewal and extension. These information collections are found in 49 CFR Parts 192, 195, and 199 of the pipeline safety regulations. PHMSA has revised the burden estimates, where appropriate, to reflect current reporting levels or adjustments based on changes made since the last information collection approvals. PHMSA is now requesting that OMB grant a three-year term of approval for both information collections.

Pursuant to 44 U.S.C. 3506(c)(2)(A) of the PRA, PHMSA is required to obtain OMB approval for information collections. The term “information collection” includes all work related to preparing and disseminating information related to these information collection requirements including completing paperwork, gathering information, and conducting telephone calls. PHMSA published a notice providing a 60-day period for comments on the renewal of information in the Federal Register on Friday 8, 2007 (72 FR 31896-31897), and received no comments. PHMSA invites comments on whether the proposed information collections are necessary for DOT's proper performance. The comments may include (1) whether the information will have practical utility; (2) the accuracy of DOT's estimate of the burden of the proposed information collections; (3) ways to enhance the quality, utility, and clarity of the information collection; and (4) ways to minimize the burden of the information collection on respondents, including the use of automated collection techniques or other forms of information technology.

Title of Information Collection Request: Reporting of Safety-Realted Conditions ono Gas, Hazardous Liquid and Carbon Dioxide Pipelines and Liquefied Natural Gas Facilities.

OMB Control Number: 2137-0578.

Summary: Operators of a gas, hazardous liquid, and carbon dioxide pipeline (except master meter) or a liquefied natural gas facility are required to submit to DOT a written report on any safety-related condition that cause a significant change or restriction in the operation of facilities or a condition that is a hazard to life, property, or the environment (49 U.S.C. 60102). PHMSA uses the information collected to identify safety-related trends and takes action to reduce pipeline accidents and incidents.

Type of Information Collection Request: Renewal of Existing Collection.

Respondents: 127.

Estimated Total Annual Burden on Respondents: 762 hours.

Estimated Cost: $49,340.

Titel of Information Collection Request: Drug and Alcohol Testing of Pipeline Operators.

OMB Control Number: 2137-0579.

Summary: Operators are required to conduct drug and alcohol testing of covered employees who perform operation, maintenance, or emergency-response functions regulated by 49 CFR Pars 192, 193, or 195 (49 CFR Part 199 and 49 CFR Part 40). PHMSA uses this information to deter and detect illegal drug use and alcohol misuse in the pipeline industry.

Type of Information Collection Request: Renewal of Existing Collection.

Respondents: 2,419.

Estimated Total Annual Burden on Respondents: 2,963 hours.

Estimated Cost: $153,314.

Issued in Washington, DC on August 7, 2007.
Florence L. Hamn,
Director of Regulations, Office of Pipeline Safety.

[FR Doc. 07-3941 Filed 8-10-07; 8:45 am]

BILLING CODE 4910-60-M